ARCTIC RESEARCH COMMISSION

104th Commission Meeting

Notice is hereby given that the U.S. Arctic Research Commission will hold its 104th meeting in Anchorage and Nome, Alaska, on August 24-26, 2015. The business sessions, open to the public, will convene at 9 a.m. in Anchorage and 8:30 a.m. in Nome.

The Agenda items include:

(1) Call to order and approval of the agenda

(2) Approval of the minutes from the 103rd meeting

(3) Commissioners and staff reports

(4) Discussion and presentations concerning Arctic research activities

The focus of the meeting will include reports and updates on programs and research projects affecting Alaska and the greater Arctic.

If you plan to attend this meeting, please notify us via the contact information below. Any person planning to attend who requires special accessibility features and/or auxiliary aids, such as sign language interpreters, must inform the Commission of those needs in advance of the meeting.

Contact person for further information: John Farrell, Executive Director, U.S. Arctic Research Commission, 703-525-0111 or TDD 703-306-0090.

Kathy Farrow,
Communications Specialist.

[FR Doc. 2015-18897 Filed 7-31-15; 8:45 am]

BILLING CODE 7555-01-P